DEPARTMENT OF HEALTH AND HUMAN SERVICES

National Institutes of Health

National Cancer Institute; Amended Notice of Meeting

Notice is hereby given of a change in the meeting of the National Cancer Advisory Board, December 09, 2013, 06:00 p.m. to December 10, 2013, 05:00 p.m., National Institutes of Health, Building 31, 31 Center Drive, Bethesda, MD, 20892 which was published in the Federal Register on November 04, 2013, 78 FR 66034.

The meeting notice is amended to include the Subcommittee meeting on Planning & Budget to meet on December 09, 2013, Hyatt Regency, 7400 Wisconsin Avenue, Bethesda, MD 20814 from 4:00 p.m. to 5:30 p.m. The subcommittee meeting is open to the public. Additionally, the ad Hoc Subcommittee on Communications that was originally scheduled for December 09, 2013 from 07:45 p.m. to 09:15 p.m. will no longer be held.

Dated: November 19, 2013.
Melanie J. Gray,
Program Analyst, Office of Federal Advisory Committee Policy.

[FR Doc. 2013-28115 Filed 11-22-13; 8:45 am]

BILLING CODE 4140-01-P